DEPARTMENT OF ENERGY

Federal Energy Regulatory Commission

Combined Notice of Filings #1

Take notice that the Commission received the following electric rate filings:

Docket Numbers: ER16-1257-002; ER10-1328-004; ER10-1330-008; ER10-1331-004; ER10-1332-004; ER10-2522-005; ER10-2567-005; ER12-1502-006; ER12-1504-006; ER12-2313-006; ER16-61-004; ER16-63-004; ER16-64-004; ER17-2-004; ER17-2336-006; ER17-360-003; ER17-361-003; ER17-362-003; ER17-539-002; ER17-540-002.

Applicants: Caprock Solar 1 LLC, Cimarron Windpower II, LLC, Frontier Windpower, LLC, Happy Jack Windpower, LLC, Ironwood Windpower, LLC, Kit Carson Windpower, LLC, Laurel Hill Wind Energy, LLC, North Allegheny Wind, LLC, Pumpjack Solar I, LLC, Rio Bravo Solar I, LLC, Rio Bravo Solar II, LLC, Seville Solar One LLC, Seville Solar Two LLC, Shoreham Solar Commons LLC, Silver Sage Windpower, LLC, Tallbear Seville LLC, Three Buttes Windpower, LLC, Top of the World Wind Energy LLC, Wildwood Solar I, LLC, Wildwood Solar II, LLC

Description: Notice of Change in Status of the Duke MBR Sellers.

Filed Date: 1/22/20.

Accession Number: 20200122-5142.

Comments Due: 5 p.m. ET 2/12/20.

Docket Numbers: ER17-1286-001.

Applicants: PJM Interconnection, L.L.C.

Description: Compliance filing: Original ISA, SA No. 4654; Queue No. AB2-109 (compliance filing) to be effective 4/12/2017.

Filed Date: 1/23/20.

Accession Number: 20200123-5032.

Comments Due: 5 p.m. ET 2/13/20.

Docket Numbers: ER18-2068-005.

Applicants: PJM Interconnection, L.L.C.

Description: Compliance filing: Revisions to the Tariff re Attachment QQ—FTR Waiver Settlement to be effective 12/30/2019.

Filed Date: 1/23/20.

Accession Number: 20200123-5020.

Comments Due: 5 p.m. ET 2/13/20.

Docket Numbers: ER19-1635-001.

Applicants: Glaciers Edge Wind Project, LLC.

Description: Notice of Change in Status of Glaciers Edge Wind Project, LLC.

Filed Date: 1/21/20.

Accession Number: 20200121-5395.

Comments Due: 5 p.m. ET 2/11/20.

Docket Numbers: ER19-1889-001; ER18-1984-001.

Applicants: Antrim Wind Energy LLC, Big Level Wind LLC.

Description: Notice of Change in Status of TransAlta MBR Sellers.

Filed Date: 1/21/20.

Accession Number: 20200121-5396.

Comments Due: 5 p.m. ET 2/11/20.

Docket Numbers: ER19-2915-001.

Applicants: PJM Interconnection, L.L.C.

Description: Compliance filing: Response to the Commission's 12/23/2019 Deficiency Letter re: Cost Commitment to be effective 1/1/2020.

Filed Date: 1/22/20.

Accession Number: 20200122-5118.

Comments Due: 5 p.m. ET 2/12/20.

Docket Numbers: ER20-480-001.

Applicants: AEP Indiana Michigan Transmission Company, PJM Interconnection, L.L.C.

Description: Tariff Amendment: AEPSC submits IMTCo & NIPSCO Interconnection Agreement SA No. 4247 to be effective 10/21/2019.

Filed Date: 1/22/20.

Accession Number: 20200122-5113.

Comments Due: 5 p.m. ET 2/12/20.

Docket Numbers: ER20-862-000.

Applicants: Midcontinent Independent System Operator, Inc.

Description: § 205(d) Rate Filing: 2020-01-22_Interregional/NIPSCO Compliance filing to be effective 3/23/2020.

Filed Date: 1/22/20.

Accession Number: 20200122-5111.

Comments Due: 5 p.m. ET 2/12/20.

Docket Numbers: ER20-863-000.

Applicants: PJM Interconnection, L.L.C.

Description: § 205(d) Rate Filing: Amendment to WMPA SA No. 4821; Queue AC1-017 to be effective 10/12/2017.

Filed Date: 1/23/20.

Accession Number: 20200123-5022.

Comments Due: 5 p.m. ET 2/13/20.

Docket Numbers: ER20-864-000.

Applicants: Midcontinent Independent System Operator, Inc.

Description: § 205(d) Rate Filing: 2020-01-23_SA 3413 Ameren IL-Cass County Solar Project GIA (J859) to be effective 1/8/2020.

Filed Date: 1/23/20.

Accession Number: 20200123-5061.

Comments Due: 5 p.m. ET 2/13/20.

Docket Numbers: ER20-865-000.

Applicants: New York Independent System Operator, Inc.

Description: § 205(d) Rate Filing: 205 re: Development Agreement among the NYISO, NMPC & NY Transco to be effective 1/10/2020.

Filed Date: 1/23/20.

Accession Number: 20200123-5069.

Comments Due: 5 p.m. ET 2/13/20.

Docket Numbers: ER20-866-000.

Applicants: Arizona Public Service Company.

Description: § 205(d) Rate Filing: Service Agreement No. 174 and 378 to be effective 12/27/2019.

Filed Date: 1/23/20.

Accession Number: 20200123-5077.

Comments Due: 5 p.m. ET 2/13/20.

Docket Numbers: ER20-867-000.

Applicants: Arizona Public Service Company.

Description: § 205(d) Rate Filing: Service Agreement No. 365 Cancellation to be effective 3/24/2020.

Filed Date: 1/23/20.

Accession Number: 20200123-5078.

Comments Due: 5 p.m. ET 2/13/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 23, 2020.
Nathaniel J. Davis, Sr.,
Deputy Secretary.

[FR Doc. 2020-01591 Filed 1-29-20; 8:45 am]

BILLING CODE 6717-01-P